DEPARTMENT OF ENERGY

Federal Energy Regulatory Commission

[Docket No. IC19-22-000]

Commission Information Collection Activities (FERC Form Nos. 1, 1-F, and 3-Q); Comment Request; Extension

AGENCY: Federal Energy Regulatory Commission.

ACTION: Notice of information collections and request for comments.

SUMMARY: In compliance with the requirements of the Paperwork Reduction Act of 1995 (PRA), the Federal Energy Regulatory Commission (Commission or FERC) is soliciting public comment on the currently approved information collections FERC Form Nos. 1 (Annual Report of Major Electric Utilities, Licensees, and Others), 1-F (Annual Report for Nonmajor Public Utilities and Licensees), and 3-Q (Quarterly Financial Report of Electric Utilities, Licensees, and Natural Gas Companies), and submitting the information collections to the Office of Management and Budget (OMB) for review. Any interested person may file comments directly with OMB and should address a copy of those comments to the Commission as explained below. On May 7, 2019, the Commission published a Notice in the Federal Register in Docket No. IC19-22-000 requesting public comments. The Commission received one public comment and will indicate that in its submittals to OMB.

DATES: Comments on the collections of information are due August 19, 2019.

ADDRESSES: Comments filed with OMB, identified by OMB Control Nos.: 1902-0021 (FERC Form No. 1), 1902-0029 (FERC Form No. 1-F), and 1902-0205 (FERC Form No. 3-Q) should be sent via email to the Office of Information and Regulatory Affairs: oira_submission@omb.gov. Attention: Federal Energy Regulatory Commission Desk Officer.

A copy of the comments should also be sent to the Commission, in Docket No. IC19-22-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown by email at DataClearance@FERC.gov, telephone at (202) 502-8663, and fax at (202) 273-0873.

SUPPLEMENTARY INFORMATION:

Titles: FERC Form Nos. 1 (Annual Report of Major Electric Utilities, Licensees, and Others), 1-F (Annual Report for Nonmajor Public Utilities and Licensees), and 3-Q (Quarterly Financial Report of Electric Utilities, Licensees, and Natural Gas Companies).

OMB Control Nos.: 1902-0021 (FERC Form No. 1), 1902-0029 (FERC Form No. 1-F), and 1902-0205 (FERC Form No. 3-Q).

Type of Request: Three-year extensions of the FERC Form Nos. 1, 1-F, and 3-Q with no changes to the current reporting and recordkeeping requirements.¹

¹ FERC Form Nos. 1, 1-F, and 3-Q are part of the “Forms Refresh” effort, which is a separate activity and not addressed here. See Revisions to the Filing Process for Commission Forms, Order No. 859, 167 FERC ¶ 61,241 (2019) (started in Docket No. AD15-11 and ongoing in Docket No. RM19-12).

FERC Form No. 1, Annual Report of Major Electric Utilities, Licensees, and Others

Abstract: The FERC Form No. 1 is a comprehensive financial and operating report submitted annually for electric rate regulation, market oversight analysis, and financial audits by Major electric utilities, licensees and others. Major is defined as having in each of the last three consecutive calendar years, sales or transmission services that exceed one of the following: (1) One million megawatt-hours of total sales; (2) 100 megawatt-hours of sales for resale; (3) 500 megawatt-hours of power exchanges delivered; or (4) 500 megawatt-hours of wheeling for others (deliveries plus losses).²

² As detailed in 18 CFR 101 (Uniform System of Accounts Prescribed for Public Utilities and Licensees Subject to the Provision of the Federal Power Act, General Instructions) and 18 CFR 141.1.

The FERC Form No. 1 is designed to collect financial and operational information and is made available to the public. The FERC Form No. 1 includes a basic set of financial statements:

• Comparative Balance Sheet,

• Statement of Income,

• Statement of Retained Earnings,

• Statement of Cash Flows,

• Statements of Accumulated Comprehensive Income,

• Comprehensive Income, and Hedging Activities, and

• Notes to Financial Statements.

Supporting schedules contain:

• Supplementary information and outlines of corporate structure and governance,

• Information on formula rates, and

• Description of important changes during the year.

Other schedules provide:

• Information on revenues and the related quantities of electric sales and electricity transmitted,

• Account balances for all electric operation and maintenance expenses,

• Selected plant cost data, and

• Other statistical information.

Type of Respondent: Major electric utilities.

Estimate of Annual Burden: ³ The Commission estimates the annual burden and cost ⁴ for FERC Form No. 1 as follows:

³ Burden is defined as the total time, effort, or financial resources expended by persons to generate, maintain, retain, or disclose or provide information to or for a Federal agency. For further explanation of what is included in the information collection burden, refer to Title 5 Code of Federal Regulations 1320.3.

⁴ The Commission staff believes the FERC FTE (full-time equivalent) average cost for wages plus benefits is representative of the corresponding cost for the industry respondents. The FERC 2018 average salary plus benefits for one FERC FTE is $164,820/year (or $79.00/hour).

FERC Form No. 1
Number of respondents | Number of responses per respondent | Total number of responses | Average burden hours & average cost per response ($) | Total annual burden hours & total annual cost ($) | Cost per respondent ($)
(1) | (2) | (1) × (2) = (3) | (4) | (3) × (4) = (5) | (5) ÷ (1) = (6)
207 | 1 | 207 | 1,168 hrs.; $92,272 | 241,776 hrs.; $19,100,304 | $92,272

FERC Form No. 1-F, Annual Report for Nonmajor Public Utilities and Licensees

OMB Control No.: 1902-0029.

Abstract: The FERC Form No. 1-F is a financial and operating report submitted annually for electric rate regulation, market oversight analysis, and financial audits by Nonmajor electric utilities and licensees. Nonmajor is defined as utilities and licensees that are not classified as Major, and having total sales in each of the last three consecutive years of 10,000 megawatt-hours or more.⁵

⁵ As detailed in 18 CFR 101 (Uniform System of Accounts Prescribed for Public Utilities and Licensees Subject to the Provision of the Federal Power Act, General Instructions) and 18 CFR 141.2.

The FERC Form No.1-F is designed to collect financial and operational information and is made available to the public. The FERC Form No.1-F includes a basic set of financial statements:

• Comparative Balance Sheet,

• Statement of Retained Earnings,

• Statement of Cash Flows,

• Statement of Comprehensive Income and Hedging Activities, and

• Notes to Financial Statements.

Supporting schedules contain:

• Supplementary information and include revenues and the related quantities of electric sales and electricity transmitted,

• Account balances for all electric operation and maintenance expenses,

• Selected plant cost data; and

• Other statistical information.

Type of Respondent: Nonmajor electric utilities.

Estimate of Annual Burden: The estimated annual burden and cost follow. (The estimated hourly cost used for the FERC Form No. 1-F is $79 (for wages plus benefits) and is described above, under the FERC Form No. 1.):

FERC Form No. 1-F
Number of respondents | Number of responses per respondent | Total number of responses | Average burden hours & average cost per response ($) | Total annual burden hours & total annual cost ($) | Cost per respondent ($)
(1) | (2) | (1) * (2) = (3) | (4) | (3) * (4) = (5) | (5) ÷ (1)
5 | 1 | 5 | 122 hrs.; $9,638 | 610 hrs.; $48,190 | $9,638

Comments

One commenter, the Bureau of Economic Analysis (BEA), filed comments in response to the 60-day notice, broadly supporting the collection, outlining the manner in which BEA utilizes the FERC Form Nos. 1 and 1-F data, and expressing interest in additional data.⁶ There were no comments filed in opposition to the collection.

⁶ The BEA comment is posted in FERC's eLibrary at https://elibrary.ferc.gov/idmws/common/OpenNat.asp?fileID=15275219.

BEA states that it uses FERC tabulations indirectly, as they are used to estimate the U.S. Census Bureau's Construction Value Put-In Place (VPIP) for electric utilities. BEA explains that Census VPIP serves a major source data input to the national income and product account (NIP A) structures investment estimates. According to BEA, NIPA estimates for electric structures rely upon the VPIP source data. As a result, BEA states that estimates of utility industry structures investment for the BEA Fixed Assets Accounts rely in turn upon the NIPA structures estimates and also directly upon selected Commission data sets published by the Energy Information Administration. BEA notes that while it uses this information indirectly through the VPIP program, BEA considers it an indispensable data source to the NIPA estimates.

BEA offers that it would like to explore receiving line items from Forms 1 and 1-F aggregated to industry totals, similar to the method and timing used to provide information to the Census Bureau. According to BEA, these tabulations would be used by BEA for, among other things, estimating industry gross output and changes in intermediate inputs. BEA explains that it would use the aggregated FERC data as well for the fixed asset account nonresidential structure investment, capital stock, and ultimately for consumption of fixed capital (depreciation) estimates that depend upon the NIPA structures estimates.

BEA states that it has in the past used items such as plant in service by type of utility; subsidiary and nonutility investments; allowance for funds used during construction; plant held for future use; plant leased to others; construction work in progress; depreciation; and other plant-related schedules because they are useful in estimating total industry plant-in-service. BEA further states that, in general, income statement and balance sheet data support utility industry investment by industry estimates. BEA notes that tabulations by legal form of ownership are also useful in the estimation of investment by legal form of organization for utility industries. BEA also expressed interest in plant-in-service separately identified for electric generation (by type of generation—hydro, nuclear, etc.), transmission, and distribution.

BEA requests that the Commission consider the inclusion of additional questions on the electric utility survey forms. Specifically, BEA suggests offering new questions that ask for capital expenditures for new versus replacement fixed assets, intangibles, and equipment and structures separately (excluding land). According to BEA, these questions would provide additional useful information to BEA that would lead to improved estimates of capital spending at BEA and for Census/VPIP.

Finally, BEA offers that more detailed information about equipment and structures leased from others under operating leases would be useful for statistical purposes.

Commission Response

As discussed above, the public utilizes the data in FERC Form Nos. 1 and 1-F to assist in monitoring the rates, the financial condition of entities and in assessing energy markets. BEA's comments in support of the collection of the FERC Form Nos. 1 and 1-F data provide tangible examples of this utilization and reflect the public benefit of reporting this information. As further discussed above, the instant request to review and approve contains no changes to the reporting requirements for the existing information collections.

FERC Form No. 3-Q, Quarterly Financial Report of Electric Utilities, Licensees, and Natural Gas Companies

OMB Control No.: 1902-0205.

Abstract: The FERC Form No. 3-Q is a quarterly financial and operating report for rate regulation, market oversight analysis, and financial audits which supplements the (a) FERC Form Nos. 1 and 1-F, for the electric industry, or the (b) FERC Form No. 2 (Annual Report for Major Natural Gas Companies; OMB Control No. 1902-0028) and FERC Form No. 2-A (Annual Report for Nonmajor Natural Gas Companies; OMB Control No. 1902-0030), for the natural gas industry. The FERC Form No. 3-Q is submitted for all Major and Nonmajor electric utilities, licensees, and natural gas companies.⁷

⁷ 18 CFR 260.1(b) states that for natural gas companies as defined by the Natural Gas Act, Major pertains to a company whose combined gas transported or stored for a fee exceed 50 million Dth in each of the three previous calendar years. 18 CFR 260.2(b) states that for natural gas companies as defined by the Natural Gas Act, Nonmajor pertains to a company not meeting the filing threshold for FERC Form No. 2, but having total gas sales or volume transactions exceeding 200,000 Dth in each of the three previous calendar years.

FERC Form No. 3-Q includes a basic set of financial statements:

• Comparative Balance Sheet,

• Statement of Income and Statement of Retained Earnings,

• Statement of Cash Flows,

• Statement of Comprehensive Income and Hedging Activities, and

• Supporting schedules containing supplementary information.

Electric respondents report:

• Revenues and the related quantities of electric sales and electricity transmitted,

• Account balances for all electric operation and maintenance expenses,

• Selected plant cost data; and

• Other statistical information.

Natural gas respondents include:

• Monthly and quarterly quantities of gas transported and associated revenues,

• Storage, terminaling and processing services,

• Natural gas customer accounts and details of service, and

• Operational expenses, depreciation, depletion and amortization of gas plant.

Type of Respondent: Major and nonmajor electric utilities, licensees, and natural gas companies.

Estimate of Annual Burden: The estimated annual burden and cost (as rounded) follow. (The estimated hourly cost used for the FERC Form No. 3-Q is $79 (for wages plus benefits) and is described above, under the FERC Form No. 1.):

FERC Form No. 3-Q
| Number of respondents | Annual number of responses per respondent | Total number of responses | Average burden hours & cost per response | Total annual burden hours & total annual cost | Annual cost per respondent ($)
| (1) | (2) | (1) * (2) = (3) | (4) | (3) * (4) = (5) | (5) ÷ (1)
FERC 3-Q (electric) | 212 | 3 | 636 | 168 hrs.; $13,272 | 106,848 hrs.; $8,440,992 | $39,816
FERC 3-Q (natural gas) | 165 | 3 | 495 | 167 hrs.; $13,193 | 82,665 hrs.; $6,530,535 | 39,579
Total for FERC 3-Q |  |  | 1,131 |  | 189,513 hrs.; $14,971,527 |

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: July 11, 2019.
Kimberly D. Bose,
Secretary.

[FR Doc. 2019-15294 Filed 7-17-19; 8:45 am]

BILLING CODE 6717-01-P